DEPARTMENT OF JUSTICE

Antitrust Division

Notice Pursuant to the National Cooperative Research and Production Act of 1993—Canton Foundation F/K/A Global Synchronizer Foundation

Notice is hereby given that, on October 15, 2025, pursuant to section 6(a) of the National Cooperative Research and Production Act of 1993, 15 U.S.C. 4301 et seq. (“the Act”), Canton Foundation f/k/a Global Synchronizer Foundation (“Canton Foundation”) has filed written notifications simultaneously with the Attorney General and the Federal Trade Commission disclosing changes in its membership. The notifications were filed for the purpose of extending the Act's provisions limiting the recovery of antitrust plaintiffs to actual damages under specified circumstances. Specifically, Noves Inc., West Jordan, UT; Temple, New York, NY; The Tie Inc., New York, NY; Ownera, London, UNITED KINGDOM; Cantor8 Technologies, London, UNITED KINGDOM; LiquidityTech Limited, Central Singapore, REPUBLIC OF SINGAPORE; Launchnodes, London, UNITED KINGDOM; and LayerZero Labs Ltd., Tortola, BRITISH VIRGIN ISLANDS, have been added as parties to this venture.

No other changes have been made in either the membership or planned activity of the group research project. Membership in this group research project remains open, and Canton Foundation intends to file additional written notifications disclosing all changes in membership.

On September 18, 2024, Canton Foundation filed its original notification pursuant to section 6(a) of the Act. The Department of Justice published a notice in the Federal Register pursuant to section 6(b) of the Act on October 11, 2024 (89 FR 82632).

The last notification was filed with the Department on July 28, 2025. A notice was published in the Federal Register pursuant to section 6(b) of the Act on August 18, 2025 (90 FR 40083).

Suzanne Morris,
Deputy Director Civil Enforcement Operations, Antitrust Division.

[FR Doc. 2025-24180 Filed 12-31-25; 8:45 am]

BILLING CODE P